SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 20, 2011.

ADDRESSES: Send all comments regarding whether this information collection is necessary for the proper performance of the function of the agency, whether the burden estimates are accurate, and if there are ways to minimize the estimated burden and enhance the quality of the collection, to Joan Elliston, Program Analyst, Office of Business Development, Small Business Administration, 409 3rd Street, 8th Floor, Washington, DC 20416.

FOR FURTHER INFORMATION CONTACT: Joan Elliston, Program Analyst, Office of Business Development 202-205-7190, joan.elliston@sba.gov. Curtis B. Rich, Management Analyst, 202-205-7030, curtis.rich@sba.gov.

SUPPLEMENTARY INFORMATION: The respondents are 8(a) Business Development (BD) program participants. Under 15 U.S.C. 637(a)(20)(A), representatives from small business concerns participating in the 8(a) BD program are required to report the following to their assigned Business Development Specialist semiannually: A listing of any agents, representatives, attorneys, accountants, consultants, and other parties (other than employees) receiving compensation to assist in obtaining a Federal contract for such Program Participant. (ii) The amount of compensation received by any person listed under clause (i) during the relevant reporting period and a description of the activities performed in return for such compensation.

Title: “Representatives Used and Compensation Paid for Services in Connection with Obtaining Federal Contracts ”.

Description of Respondents: Representatives of 8(a) Business Development program firms.

Form Number: 1790.

Annual Responses: 14,280.

Annual Burden: 3,570.

Jacqueline White,
Chief, Administrative Information Branch.

[FR Doc. 2011-9443 Filed 4-18-11; 8:45 am]

BILLING CODE 8025-01-P